DEPARTMENT OF TRANSPORTATION

Federal Aviation Administration

14 CFR Part 39

[Docket No. FAA-2005-22109; Directorate Identifier 2005-NE-32-AD]

RIN 2120-AA64

Airworthiness Directives; Sicma Aero Seat (Formerly Farner); Cabin Attendant Seat Series 150 Type FN and Series 151 Type WN

AGENCY: Federal Aviation Administration (FAA), Department of Transportation (DOT).

ACTION: Notice of proposed rulemaking (NPRM).

SUMMARY: The FAA proposes to adopt a new airworthiness directive (AD) for Sicma Aero Seat (formerly Farner) cabin attendant seat series 150 type FN and series 151 type WN. This proposed AD would require installing two protection fairings over the upper seat structure to cover the gap between the upper and lower seats and prevent any contact with the bottom seat folding mechanisms. This proposed AD results from a child catching its fingers in the folding mechanism of the bottom of the attendant seat. We are proposing this AD to prevent injury resulting from contact with the bottom folding mechanism.

DATES: We must receive any comments on this proposed AD by December 5, 2005.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Sicma Aero Seat 7, Rue Lucien Coupet, 36100 Issoudun, France; telephone 33 (0) 2 54 03 39 39, fax 33 (0) 2 54 03 15 16, for the service information identified in this proposed AD.

FOR FURTHER INFORMATION CONTACT: Jeffrey Lee, Aerospace Engineer, Boston Aircraft Certification Office, FAA, Engine and Propeller Directorate, FAA, 12 New England Executive Park, Burlington, MA 01803-5299; telephone (781) 238-7161; fax (781) 238-7170.

SUPPLEMENTARY INFORMATION:

Comments Invited

We invite you to send us any written relevant data, views, or arguments regarding this proposal. Send your comments to an address listed under ADDRESSES. Include “Docket No. FAA-2005-22109; Directorate Identifier 2005-NE-32-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received, and any final disposition in person at the DMS Docket Offices between 9 a.m. and 5 p.m., Monday through Friday, except Federal holidays. The Docket Office (telephone (800) 647-5227) is on the plaza level of the Department of Transportation Nassif Building at the street address stated in ADDRESSES. Comments will be available in the AD docket shortly after the DMS receives them.

Discussion

The Direction Generale de L'Aviation Civile (DGAC), which is the airworthiness authority for France, notified us that an unsafe condition might exist on Sicma Aero Seat (formerly Farner) cabin attendant seat series 150 type FN and series 151 type WN. The DGAC advises that this proposed AD results from a child catching and injuring his fingers in the bottom seat folding mechanism. This proposed AD would require installing two protective fairings over the upper seat structure to cover the gap between the upper and lower seats and prevent any contact with the folding mechanisms of the bottom seat. Initially Farner and Sicma Aero Seat manufactured identical attendant seats. The affected seats have a Farner placard, but since Farner no longer manufacturers these seats, Sicma will install the protective fairings.

Relevant Service Information

We have reviewed and approved the technical contents of Sicma Aero Seat Service Bulletin (SB) 150-25-036, Issue 1, dated October 2, 1999, and Sicma Aero Seat Service Bulletin (SB) 151-25-037, Issue 1, dated October 2, 1999. Those SB's describe procedures for installing two protective fairings on each affected cabin attendant seat and adding or completing a modification placard. The DGAC classified these service bulletins as mandatory and issued airworthiness directive 1999-004(AB), dated January 13, 1999, in order to ensure the airworthiness of these attendant seats in France.

FAA's Determination and Requirements of the Proposed AD

These cabin attendant seats, manufactured in France, are used in airplanes that are type-certificated for operation in the United States under the provisions of section 21.29 of the Federal Aviation Regulations (14 CFR 21.29) and the applicable bilateral airworthiness agreement. In keeping with this bilateral airworthiness agreement, the DGAC kept us informed of the situation described above. We have examined the DGAC's findings, reviewed all available information, and determined that AD action is necessary for products of this type design that are certificated for operation in the United States. For this reason, we are proposing this AD, which would require installing two protective fairings on each affected cabin attendant seat and replacing the existing identification placard with a new one. The proposed AD would require you to use the service information described previously to perform these actions.

Costs of Compliance

There are about 5,584 Sicma Aero Seat (formerly Farner) cabin attendant seats, series 150 type FN and 151 type WN of the affected design installed on 698 airplanes of U.S. registry. We estimate that it would take about 3 work hours per airplane to perform the proposed actions, and that the average labor rate is $65 per work hour. Sicma has advised us that they will supply the modification kits at no cost. Based on the labor rate to install the kits, the total cost of the proposed AD to U.S. operators will be $138,110.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Sicma Aero Seat (formerly Farner): Docket No. FAA-2005-22109; Directorate Identifier 2005-NE-32-AD.

Comments Due Date

(a) The Federal Aviation Administration (FAA) must receive comments on this airworthiness directive (AD) action by December 5, 2005.

Affected ADs

(b) None.

Applicability

(c) This AD is applies to Sicma Aero Seat (formerly Farner) cabin attendant seat series 150 type FN and 151 type WN, all part and serial numbers. These attendant seats are installed on, but not limited to, Airbus A319, A320 and A321 series airplanes.

Unsafe Condition

(d) This proposed AD results from a child catching its fingers in the folding mechanism of the bottom of the attendant seat. We are issuing this AD to prevent injury resulting from contact with the bottom folding mechanism.

Compliance

(e) You are responsible for having the actions required by this AD performed within the compliance times specified unless the actions have already been done.

Installing Protective Fairings

(f) Within 90 days after the effective date of this AD, install two protective fairings, part number (P/N) 160100-49, on each affected cabin attendant seat. Use the instructions in paragraph 2 of Sicma Aeroseat Service Bulletin 150-25-036, Issue 1, dated October 2, 1999, and Sicma Aeroseat Service Bulletin 151-25-037, Issue 1, dated October 2, 1999.

(g) After installing the fairings, add or complete a modification placard, part number (P/N) 00-5179, indicating that the service bulletin has been completed. Use the instructions in paragraph 3 of Sicma Aeroseat Service Bulletin 150-25-036, Issue 1, dated October 2, 1999, and Sicma Aeroseat Service Bulletin 151-25-037, Issue 1, dated October 2, 1999.

Alternative Methods of Compliance (AMOCs)

(h) The Manager, Boston Aircraft Certification Office, has the authority to approve alternative methods of compliance for this AD if requested using the procedures found in 14 CFR 39.19.

Related Information

(i) DGAC airworthiness directive 1999-004 (AB), dated January 13, 1999, also addresses the subject of this AD.

Issued in Burlington, Massachusetts, on September 26, 2005.
Francis A. Favara,
Acting Manager, Engine and Propeller Directorate, Aircraft Certification Service.

[FR Doc. 05-19873 Filed 10-3-05; 8:45 am]

BILLING CODE 4910-13-P